DEPARTMENT OF LABOR

Mine Safety and Health Administration

30 CFR Part 57

Safety and Health Standards—Underground Metal and Nonmetal Mines

CFR Correction

In Title 30 of the Code of Federal Regulations, parts 1 to 199, revised as of July 1, 2008, on page 358, in § 57.5060, remove paragraph (c)(3)(i) and redesignate paragraphs (c)(3)(ii), (c)(3)(iii), and (c)(3)(iv) as (c)(3)(i), (c)(3)(ii), and (c)(3)(iii) respectively.

[FR Doc. E9-9767 Filed 4-27-09; 8:45 am]

BILLING CODE 1505-01-D